ENVIRONMENTAL PROTECTION AGENCY

40 CFR Part 62

[OK-19-1-7453b; FRL-6582-2]

Approval and Promulgation of State Plans for Designated Facilities and Pollutants: Oklahoma

AGENCY: Environmental Protection Agency (EPA).

ACTION: Proposed rule.

SUMMARY: We propose to approve the section 111(d) Plan submitted by the Oklahoma Department of Environmental Quality on November 17, 1999, to implement and enforce the Emissions Guidelines (EG) for existing Hospital/Medical/Infectious Waste Incinerators (MWI). The EG require States to develop plans to reduce toxic air emissions from all MWIs. In the final rules section of this Federal Register, we are approving the State Plan as a direct final rule without prior proposal because we view this as a noncontroversial amendment and anticipates no adverse comments. A detailed rationale for the approval is set forth in the direct final rule. If no adverse comments are received in response to this rule, no further activity is contemplated in relation to this rule. If we receive adverse comments, the direct final rule will be withdrawn, and all public comments received will be addressed in a subsequent final rule based on this proposed rule. We will not institute a second comment period on this action. Any parties interested in commenting on this action should do so at this time. Please see the direct final notice of this action located elsewhere in today's Federal Register for a detailed description of the Oklahoma State Plan.

DATES: Comments must be received by June 1, 2000.

ADDRESSES: You should address comments on this action to Lt. Commander Mick Cote, EPA Region 6, Air Planning Section (6PD-L), 1445 Ross Avenue, Suite 1200, Dallas, Texas 75202. Copies of all materials considered in this rulemaking may be examined during normal business hours at the following locations: EPA Region 6 offices, 1445 Ross Avenue, Suite 700, Dallas, Texas 75202, and at the Oklahoma Department of Environmental Quality offices, 707 North Robinson, Oklahoma City, Oklahoma 73101-1677.

FOR FURTHER INFORMATION CONTACT: Lt. Commander Mick Cote at (214) 665-7219.

List of Subjects in 40 CFR Part 62

Environmental protection, Administrative practice and procedure, Air pollution control, Intergovernmental relations, Reporting and recordkeeping requirements.

Dated: March 31, 2000.
Jerry Clifford,
Acting Regional Administrator, Region 6.

[FR Doc. 00-10762 Filed 5-1-00; 8:45 am]

BILLING CODE 6560-50-P